DEPARTMENT OF THE INTERIOR

Bureau of Land Management

[WO-230-1020-PB-24 1A]

Extension of Approved Information Collection, OMB Control Number 1004-0058

AGENCY: Bureau of Land Management, Interior.

ACTION: Notice and request for comments.

SUMMARY: In accordance with the Paperwork Reduction Act of 1995, the Bureau of Land Management (BLM) is requesting the Office of Management and Budget (OMB) to extend an existing approval to collect certain information from Federal timber purchasers to allow BLM to determine compliance with timber export restrictions. BLM uses Form 5460-17, Substitution Determination, to collect this information. This information allows BLM to administer export restrictions on BLM timber sales and to determine whether there was a substitution of Federal timber for exported private timber in violation of 43 CFR 5400.0-3(c).

DATES: You must submit your comments to BLM at the address below on or before April 14, 2003.

ADDRESSES: You may mail comments to: Bureau of Land Management, (WO-630), Eastern States Office, 7450 Boston Blvd., Springfield, Virginia 22153.

You may send comments via Internet to: WOComments@blm.gov. Please include “ATTN: 1004-0058” and your name and return address in your Internet message.

You may deliver comments to the Bureau of Land Management, Administrative Record, Room 401, 1620 L Street, NW., Washington, DC.

All comments will be available for public review at the L Street address during regular business hours (7:45 a.m. to 4:15 p.m.) Monday through Friday.

FOR FURTHER INFORMATION CONTACT: You may contact Michael J. Haske, WO-230, on (202) 452-7758 (Commercial or FTS). Persons who use a telecommunications device for the deaf (TDD) may call the Federal Information Relay Service (FIRS) on 1-800-877-8330, 24 hours a day, seven days a week, to contact Mr. Haske.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM manages and sells timber located on the revested Oregon and California Railroad and the reconveyed Coos Bay Wagon Grants Lands under the authority of the Act of August 28, 1937 (50 Stat. 875, 43 U.S.C. 1181e). Under the Act of July 31, 1947, as amended (61 Stat. 681, 30 U.S.C. 601 et seq.), BLM also manages and sells timber located on other lands under our jurisdiction. The Department of the Interior and Related Agencies Appropriation Acts of 1975 and 1976 contained a requirement for the inclusion of provisions in timber sale contracts that will ensure that unprocessed timber sold from public lands under the jurisdiction of the BLM will not be exported or used by the purchasers as a substitute for timber they export or sell for export. The regulations at 43 CFR 5400, Sales of Forest Products, General, cover these provisions.

Timber purchasers or their affiliates must submit the information listed at 43 CFR 5424.1(a) using Form 5460-17, Substitution Determination. We collect the purchaser's name, timber contract number, processing facility location, total volume of Federal timber purchases on an annual basis, total volume of private timber exported on an annual basis, and method of measuring the volume. The regulation 43 CFR 5424.1(b) requires that the purchasers or affiliates retain a record of Federal timber acquisitions and private timber exports for three years from the date they activity occurred. BLM uses this information to determine if there was a substitution of Federal timber for exported private timber in violation of 43 CFR 5400.0-3(c). We could not protect against export and substitution if we did not collect this information.

Based on BLM's experience administering timber contracts, we estimate the public reporting burden to collect the information is one hour per response. The respondents are Federal timber purchasers who exported private timber within one year preceding the purchase date of Federal timber and/or affiliates of a timber purchaser who exported private timber within one year before the acquisition of Federal timber from the purchaser. The frequency of response is annually. We estimate 25 responses per year and a total annual burden of 25 hours.

BLM will summarize all responses to this notice and include them in the request for OMB approval. All comments will become a matter of public record.

Dated: February 5, 2003.
Michael H. Schwartz,
Bureau of Land Management, Information Collection Clearance Officer.

[FR Doc. 03-3327 Filed 2-10-03; 8:45 am]

BILLING CODE 4310-84-M